DEPARTMENT OF ENERGY

Federal Energy Regulatory Commission

Notice of Commission Staff Attendance

The Federal Energy Regulatory Commission (Commission) hereby gives notice that members of the Commission's staff may attend the following meeting related to the transmission planning activities of the Southeastern Regional Transmission Planning (SERTP) Process.

The SERTP Process Second Quarter Meeting.

June 25, 2015, 10:00 a.m.-2:00 p.m. (Eastern Time)

The above-referenced meeting will be via web conference.

The above-referenced meeting is open to stakeholders.

Further information may be found at: www.southeasternrtp.com.

The discussions at the meeting described above may address matters at issue in the following proceedings:

Docket Nos. ER13-83, ER13-1928, Duke Energy Carolinas/Carolina Power & Light

Docket Nos. ER13-908, ER13-1941, Alabama Power Company et al.

Docket Nos. ER13-913, ER13-1940, Ohio Valley Electric Corporation.

Docket Nos. ER13-897, ER13-1930, Louisville Gas and Electric Company and Kentucky Utilities Company.

For more information, contact Valerie Martin, Office of Energy Market Regulation, Federal Energy Regulatory Commission at (202) 502-6139 or Valerie.Martin@ferc.gov.

Dated: June 12, 2015.
Kimberly D. Bose,
Secretary.

[FR Doc. 2015-15096 Filed 6-18-15; 8:45 am]

BILLING CODE 6717-01-P